DEPARTMENT OF ENERGY

Federal Energy Regulatory Commission

Combined Notice of Filings #1

Take notice that the Commission received the following electric corporate filings:

Docket Numbers: EC14-148-000.

Applicants: Duke Energy Progress, Inc.

Description: Application for Authorization under Section 203 of the Federal Power Act of Duke Energy Progress, Inc.

Filed Date: 9/23/14.

Accession Number: 20140923-5173.

Comments Due: 5 p.m. ET 10/14/14.

Take notice that the Commission received the following electric rate filings:

Docket Numbers: ER10-2881-014; ER10-2882-014; ER10-2883-014; ER10-2884-014; ER10-2885-014; ER10-2641-014; ER10-2663-014; ER10-2886-014; ER13-1101-009; ER13-1541-008; ER14-787-002.

Applicants: Alabama Power Company, Southern Power Company, Mississippi Power Company, Georgia Power Company, Gulf Power Company, Oleander Power Project, LP, Southern Company-Florida LLC, Southern Turner Cimarron I, LLC, Spectrum Nevada Solar, LLC, Campo Verde Solar, LLC, Macho Springs Solar, LLC.

Description: Supplement to June 30, 2014 Updated Market Power Analysis of Alabama Power Company, et al.

Filed Date: 9/23/14.

Accession Number: 20140923-5175.

Comments Due: 5 p.m. ET 10/14/14.

Docket Numbers: ER14-473-001.

Applicants: New York Independent System Operator, Inc.

Description: Compliance filing regarding the Web site posting location and timing of such posting concerning certain Area Control Error data of New York Independent System Operator, Inc.

Filed Date: 9/23/14.

Accession Number: 20140923-5182.

Comments Due: 5 p.m. ET 10/14/14.

Docket Numbers: ER14-2631-000; ER14-2635-000; ER14-2632-000; ER14-2637-000; ER14-2636-000; ER14-2638-000; ER14-2633-000; ER14-2634-000.

Applicants: Atlantic City Electric Company, Bethlehem Renewable Energy, LLC, Delmarva Power & Light Company, Eastern Landfill Gas, LLC, Fauquier Landfill Gas, LLC, Pepco Energy Services, Inc., Potomac Electric Power Company, Potomac Power Resources, LLC.

Description: Supplement to August 12, 2014 Atlantic City Electric Company, et al. tariff filings and Notice of Succession.

Filed Date: 9/23/14.

Accession Number: 20140923-5172.

Comments Due: 5 p.m. ET 10/3/14.

Docket Numbers: ER14-2642-000; ER14-2644-000; ER14-2645-000; ER14-2646-000; ER14-2647-000; ER14-2648-000; ER14-2650-000; ER14-2651-000; ER14-2652-000.

Applicants: Dynegy Oakland, LLC, Dynegy Midwest Generation, LLC, Dynegy Kendall Energy, LLC, Casco Bay Energy Company, LLC, Dynegy Power Marketing, LLC, Dynegy Moss Landing, LLC, Dynegy Marketing and Trade, LLC, Ontelaunee Power Operating Company, LLC, Sithe/Independence Power Partners, L.P., Illinois Power Marketing Company.

Description: Amendment to August 13, 2014 and August 15, 2014 Dynegy Oakland, LLC, et al. tariff filings and Request for Shortened Comment Period under ER14-2642, et al.

Filed Date: 9/23/14.

Accession Number: 20140923-5160.

Comments Due: 5 p.m. ET 10/7/14.

Docket Numbers: ER14-2931-000.

Applicants: Calpine Fore River Energy Center, LLC.

Description: § 205(d) rate filing per 35.13(a)(2)(iii): Notice of Succession and Revisions to Market-Based Rate Tariff to be effective 9/24/2014.

Filed Date: 9/23/14.

Accession Number: 20140923-5147.

Comments Due: 5 p.m. ET 10/14/14.

Docket Numbers: ER14-2932-000.

Applicants: Nevada Power Company.

Description: § 205(d) rate filing per 35.13(a)(2)(iii): Rate Schedule No. 136 Mead-Phoenix Project IOA Revised Exhibit F Concurrence to be effective 7/1/2014.

Filed Date: 9/23/14.

Accession Number: 20140923-5155.

Comments Due: 5 p.m. ET 10/14/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 24, 2014.
Nathaniel J. Davis, Sr.,
Deputy Secretary.

[FR Doc. 2014-23348 Filed 9-30-14; 8:45 am]

BILLING CODE 6717-01-P